DEPARTMENT OF COMMERCE

International Trade Administration

[A-533-873]

Certain Cold-Drawn Mechanical Tubing of Carbon and Alloy Steel From India: Final Results of Antidumping Duty Administrative Reviews of Goodluck India Limited; 2017-2019 and 2019-2020

AGENCY: Enforcement and Compliance, International Trade Administration, Department of Commerce.

SUMMARY: The U.S. Department of Commerce (Commerce) determines that Goodluck India Limited (Goodluck) made sales of certain cold-drawn mechanical tubing of carbon and alloy steel (CDMT) from India in the United States at prices below normal value (NV) during the periods of review (PORs) of November 22, 2017, through May 31, 2019 (AR1) and June 1, 2019, through May 31, 2020 (AR2).

DATES: Applicable June 26, 2023.

FOR FURTHER INFORMATION CONTACT: Javier Barrientos AD/CVD Operations, Office V, Enforcement and Compliance, International Trade Administration, U.S. Department of Commerce, 1401 Constitution Avenue NW, Washington, DC 20230; telephone: (202) 482-2243.

SUPPLEMENTARY INFORMATION:

Background

On December 20, 2022, Commerce published the Preliminary Results of these reviews in the Federal Register.¹ We invited interested parties to comment on the Preliminary Results. Between January 26, 2023, and February 9, 2023, Commerce received timely-filed briefs and rebuttal briefs from Goodluck and from ArcelorMittal Tubular Products LLC, Michigan Seamless Tube, LLC, Plymouth Tube, PTC Alliance Corp., Webco Industries, Inc., and Zekelman Industries (collectively, the petitioners).²

¹ See Certain Cold-Drawn Mechanical Tubing of Carbon and Alloy Steel from India: Preliminary Results of Antidumping Duty Administrative Reviews of Goodluck India Limited; 2017-2019 and 2019-2020; 87 FR 77793 (December 20, 2022) (Preliminary Results), and accompanying Preliminary Decision Memorandum); see also Certain Cold-Drawn Mechanical Tubing of Carbon and Alloy Steel from India: Notice of Second Amended Final Determination; Notice of Amended Order; Notice of Resumption of First and Reinitiation of Second Antidumping Duty Administrative Reviews; Notice of Opportunity for Withdrawal; and Notice of Assessment in Third Antidumping Duty Administrative Review, 86 FR 74069 (December 29, 2021) (AR1 Resumption and AR2 Reinitiation Notice).

² See Petitioners' Letters, “Petitioners' Case Brief for Goodluck India Limited,” dated January 26, 2023; “Petitioners' Case Brief for Goodluck India Limited,” dated January 26, 2023; and Goodluck's Letters, “Goodluck Administrative Case Brief,” dated January 26, 2023; “Goodluck Administrative Case Brief,” dated January 26, 2023. See also Petitioners' Letters, “Petitioners' Rebuttal Brief for Goodluck India Limited,” dated February 9, 2023; “Petitioners' Rebuttal Brief for Goodluck India Limited,” dated February 9, 2023; and Goodluck's Letters, “Goodluck Administrative Rebuttal Brief,” dated February 9, 2023; “Goodluck Administrative Rebuttal Brief,” dated February 9, 2023.

On April 12, 2023, we extended the deadline for the final results, in accordance with section 751(a)(3)(A) of the Tariff Act of 1930, as amended (the Act), and 19 CFR 351.213(h)(2) ³ until June 16, 2023. On May 24, 2023, Commerce held a hearing during which parties presented arguments in their case briefs.⁴

³ See Memorandum, “Extension of Deadline for Final Results of 2017-2019 and 2019-2020 Antidumping Duty Administrative Reviews for Goodluck India Limited,” dated April 12, 2023.

⁴ See Hearing Transcript, “Public Hearing in the Matter of the Administrative Review of the Antidumping Duty Order on Cold-Drawn Mechanical Tubing from India,” dated May 24, 2023.

Based on an analysis of the comments received, we did not make changes to the weighted-average dumping margins calculated for Goodluck. The weighted-average dumping margins are listed in the “Final Results of Review” section, below. Commerce conducted these reviews in accordance with section 751(a) of the Act.

Scope of the Order ⁵

⁵ See Certain Cold-Drawn Mechanical Tubing of Carbon and Alloy Steel from the People's Republic of China, the Federal Republic of Germany, India, Italy, the Republic of Korea, and Switzerland: Antidumping Duty Orders; and Amended Final Determinations of Sales at Less Than Fair Value for the People's Republic of China and Switzerland, 83 FR 26962 (June 11, 2018) (Order).

The merchandise covered by the Order is CDMT from India. For a complete description of the scope of the Order, see the Issues and Decision Memorandum.⁶

⁶ See Memorandum, “Issues and Decision Memorandum for the Final Results of the Antidumping Duty Administrative Reviews of Goodluck India Limited: Certain Cold-Drawn Mechanical Tubing of Carbon and Alloy Steel from India 2017-2019 & 2019-2020,” dated concurrently with, and hereby adopted by, this notice (Issues and Decision Memorandum).

Analysis of Comments Received

We addressed all issues raised in the case and rebuttal briefs in the Issues and Decision Memorandum, which is hereby adopted by this notice. The issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review and analysis of the comments received from parties, we did not make changes to Goodluck's margin calculations. See the Issues and Decision Memorandum.

Final Results of Reviews

We are assigning the following weighted-average dumping margin to Goodluck for the period November 22, 2017, through May 31, 2019:

Exporter/producer | Weighted- average dumping margin (percent)
Goodluck India Limited | 1.59

We are assigning the following weighted-average dumping margin to Goodluck for the period June 1, 2019, through May 31, 2020:

⁷ Commerce previously completed a 2019-2020 review of entries for which Goodluck India Limited was either the exporter or the producer, but not both. See Certain Cold-Drawn Mechanical Tubing of Carbon and Alloy Steel from India: Final Results of Antidumping Duty Administrative Review and Final Determination of No Shipments; 2019-2020, 86 FR 59982 (October 29, 2021) (CDMT AR2 2021 Final). Here, Commerce has completed its review of entries exported and produced by Goodluck India Limited. Accordingly, with the conclusion of this review, Commerce has assigned a cash deposit rate to all Goodluck entries, consistent with its standard practice.

Exporter/producer ⁷ | Weighted- average dumping margin (percent)
Goodluck India Limited | 1.39

Assessment

Pursuant to section 751(a)(2)(C) of the Act and 19 CFR 351.212(b)(1), Commerce will determine, and U.S. Customs and Border Protection (CBP) shall assess, antidumping duties on all appropriate entries of subject merchandise in accordance with the final results of these reviews.

Where an importer- (or customer-) specific ad valorem or per-unit rate is greater than de minimis (i.e., 0.50 percent), Commerce will instruct CBP to collect the appropriate duties at the time of liquidation.⁸ Where an importer- (or customer-) specific ad valorem or per-unit rate is zero or de minimis, Commerce will instruct CBP to liquidate appropriate entries without regard to antidumping duties.⁹

⁸ See 19 CFR 351.212(b)(1).

⁹ See 19 CFR 351.106(c)(2).

In accordance with Commerce's “automatic assessment” practice, for entries of subject merchandise during the 2017-2019 POR produced by Goodluck for which the company did not know that the merchandise was destined for the United States, we will instruct CBP to liquidate those entries at the all-others rate established in the original less-than-fair-value investigation if there is no rate for the intermediate company(ies) involved in the transaction.¹⁰ Additionally, for the 2017-2019 POR, we intend to instruct CBP to take into account the “provisional measures deposit cap,” in accordance with 19 CFR 351.212(d).

¹⁰ For a full discussion of this practice, see Antidumping and Countervailing Duty Proceedings: Assessment of Antidumping Duties, 68 FR 23954 (May 6, 2003). We note that the 2019-2020 administrative review only covers entries produced and exported by Goodluck during the POR. See AR1 Resumption and AR2 Reinitiation Notice; see also Initiation of Antidumping and Countervailing Duty Administrative Reviews, 85 FR 47731 (August 6, 2020); see also CDMT AR2 2021 Final, 86 FR at 59983 (finding that Goodluck had no shipments during the POR under the producer/exporter combinations under review). We note that Commerce's “automatic assessment” practice, referenced above, does not apply to entries during the 2019-2020 POR under these circumstances, because Commerce previously issued the final results of review with respect to such entries, along with corresponding customs instructions.

Commerce intends to issue assessment instructions to CBP no earlier than 35 days after the date of publication of the final results of these reviews in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of CDMT from India entered, or withdrawn from warehouse, for consumption on or after the date of publication of the final results as provided by section 751(a)(2) of the Act: (1) the cash deposit rate for entries for Goodluck will be equal to the weighted-average dumping margin established in the final results of the 2020-2021 review; (2) for merchandise exported by companies not covered in these reviews but covered in another completed segment of the proceeding, the cash deposit rate will continue to be the company-specific rate published in the most recently-completed segment; and (3) the cash deposit rate for all other producers or exporters will continue to be 5.87 percent, the all-others rate established in the LTFV investigation in this proceeding.¹¹

¹¹ See Orders, 83 FR at 24964.

Notification to Importers

This notice serves as a final reminder to importers of their responsibility under 19 CFR 351.402(f)(2) to file a certificate regarding the reimbursement of antidumping duties prior to liquidation of the relevant entries during these PORs. Failure to comply with this requirement could result in the presumption that reimbursement of antidumping duties occurred and the subsequent assessment of double antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results in accordance with sections 751(a)(1) and 777(i)(1) of the Act and 19 CFR 351.221(b)(5).

Dated: June 16, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Whether Commerce Erred in Applying its Differential Pricing Analysis

Comment 2: Whether Goodluck Properly Assigned Grades to Subject Merchandise

Comment 3: Whether Goodluck Properly Relied on Theoretical Weight in its Reporting

Comment 4: Whether Commerce Should Accept Goodluck's Reported Scrap Offset

VI. Recommendation

[FR Doc. 2023-13485 Filed 6-23-23; 8:45 am]

BILLING CODE 3510-DS-P